DEPARTMENT OF ENERGY

Environmental Management Site-Specific Advisory Board, Northern New Mexico

AGENCY: Department of Energy.

ACTION: Notice of open meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, July 25, 2012, 1 p.m.-7 p.m.

ADDRESSES: Best Western Hilltop House, 400 Trinity Drive, Los Alamos, NM 87544.

FOR FURTHER INFORMATION CONTACT: Menice Santistevan, Northern New Mexico Citizens' Advisory Board (NNMCAB), 94 Cities of Gold Road, Santa Fe, NM 87506. Phone (505) 995-0393; Fax (505) 989-1752 or Email: msantistevan@doeal.gov.

SUPPLEMENTARY INFORMATION: Purpose of the Board: The purpose of the Board is to make recommendations to DOE-EM and site management in the areas of environmental restoration, waste management, and related activities.

Tentative Agenda

1 p.m. Call to Order by Deputy Designated Federal Officer (DDFO), Ed Worth.

• Establishment of a Quorum: Roll Call and Excused Absences, Karen Erickson.

• Welcome and Introductions, Ralph Phelps, Chair.

• Approval of Agenda and May 30, 2012, Meeting Minutes.

1:15 p.m. Public Comment Period.

1:30 p.m. Old Business.

• Written Reports.

• Final Details on Rocky Flats Tour.

• Other Items.

1:45 p.m. New Business.

• Report from Nominating Committee (Section V, F. of NNMCAB Bylaws), Deb Shaw and Nicole Castellano.

• Other Items.

2 p.m. Items from the DDFO, Ed Worth.

• Update from DOE.

• Update on Corrective Measures Evaluations.

• Other Items.

2:30 p.m. Break.

2:45 p.m. Update from Liaison Members, Pete Maggiore, Los Alamos Site Office—Environmental Projects Office, John Kieling, New Mexico Environment Department, Michael Graham, Los Alamos National Security, and Rich Mayer, Environmental Protection Agency.

3:45 p.m. Update from the Site Manager, Kevin Smith.

4:45 p.m. Impact of NNMCAB Recommendations, Colleen Curran.

5:15 p.m. Dinner Break.

6 p.m. Public Comment Period.

6:15 p.m. Consideration and Action on Draft Recommendation(s), Ralph Phelps.

6:45 p.m. Wrap-up and Comments from Board Members, Ralph Phelps.

7 p.m. Adjourn, Ed Worth, DDFO.

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.energy.gov/.

Issued at Washington, DC, on June 21, 2012.
LaTanya R. Butler,
Acting Deputy Committee Management Officer.

[FR Doc. 2012-16169 Filed 6-29-12; 8:45 am]

BILLING CODE 6405-01-P